NUCLEAR REGULATORY COMMISSION

[NRC-2014-0256]

Aquatic Environmental Studies for Nuclear Power Stations

AGENCY: Nuclear Regulatory Commission.

ACTION: Draft regulatory guide; request for comment and extension of comment period.

SUMMARY: On December 11, 2014, the U.S. Nuclear Regulatory Commission (NRC) solicited comments on draft regulatory guide (DG), DG-4023, “Aquatic Environmental Studies for Nuclear Power Stations.” The public comment period was originally scheduled to close on February 9, 2015. The NRC has decided to extend the public comment period to allow more time for members of the public to develop and submit their comments.

DATES: The due date of comments requested in the document published on December 11, 2014 (79 FR 73646) is extended. Comments should be filed no later than March 11, 2015. Comments received after this date will be considered, if it is practical to do so, but the Commission is able to ensure consideration only for comments received on or before this date.

ADDRESSES: You may submit comment by any of the following methods (unless this document describes a different method for submitting comments on a specific subject):

• Federal Rulemaking Web Site: Go to http://www.regulations.gov and search for Docket ID NRC-2014-0256. Address questions about NRC dockets to Carol Gallagher; telephone: 301-287-3422; email: Carol.Gallagher@nrc.gov. For technical questions, contact the individual(s) listed in the FOR FURTHER INFORMATION CONTACT section of this document.

• Mail comments to: Cindy Bladey, Office of Administration, Mail Stop: OWFN-12 H08, U.S. Nuclear Regulatory Commission, Washington, DC 20555-0001.

For additional direction on accessing information and submitting comments, see “Obtaining Information and Submitting Comments” in the SUPPLEMENTARY INFORMATION section of this document.

FOR FURTHER INFORMATION CONTACT: Ryan Whited, Office of New Reactors, telephone: 301-415-1154, email: Ryan.Whited@nrc.gov and Edward O'Donnell, Office of Nuclear Regulatory Research, telephone: 301-251-7455, email: Edward.ODonnell@nrc.gov. Both are staff of the U.S. Nuclear Regulatory Commission, Washington, DC 20555-0001.

SUPPLEMENTARY INFORMATION:

I. Obtaining Information and Submitting Comments

A. Obtaining Information

Please refer to Docket ID NRC-2014-0256 when contacting the NRC about the availability of information regarding this document. You may obtain publicly-available information related to this action by the following methods:

• Federal Rulemaking Web Site: Go to http://www.regulations.gov and search for Docket ID NRC-2014-0256.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The DG is electronically available in ADAMS under Accession No. ML13186A085.

• NRC's PDR: You may examine and purchase copies of public documents at the NRC's PDR, Room O1-F21, One White Flint North, 11555 Rockville Pike, Rockville, Maryland 20852.

B. Submitting Comments

Please include Docket ID NRC-2014-0256 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On December 11, 2014, the NRC solicited comments on draft regulatory guide, DG-4023, “Aquatic Environmental Studies for Nuclear Power Stations.” It is a proposed new regulatory guide, and it is temporarily identified by its task number, DG-4023. The draft guide provides technical guidance for aquatic environmental studies and analyses supporting decisions related to nuclear power stations by the NRC. For purposes of DG-4023, the term “aquatic” encompasses freshwater, estuarine, and marine environments. The draft guide addresses wetlands containing submerged aquatic vegetation but does not address wetlands also containing emergent vegetation. Instead, NRC's Regulatory Guide 4.11, “Terrestrial Environmental Studies for Nuclear Power Stations,” addresses such wetland features, along with the terrestrial environment. Although the NRC is issuing separate regulatory guides addressing terrestrial and aquatic environmental studies, it recognizes that aquatic and terrestrial ecological issues often overlap and are often interrelated.

The public comment period was originally scheduled to close on February 9, 2015. The NRC has decided to extend the public comment period on this document until March 11, 2015, to allow more time for members of the public to submit their comments.

Dated at Rockville, Maryland, this 4th day of February, 2015.
For the Nuclear Regulatory Commission.
Thomas H. Boyce,
Chief, Regulatory Guidance and Generic Issues Branch, Division of Engineering, Office of Nuclear Regulatory Research.

[FR Doc. 2015-02571 Filed 2-6-15; 8:45 am]

BILLING CODE 7590-01-P